COMMITTEE FOR PURCHASE FROM PEOPLE WHO ARE BLIND OR SEVERELY DISABLED

Procurement List Proposed Additions

AGENCY: Committee for Purchase From People Who Are Blind or Severely Disabled.

ACTION: Proposed Additions to Procurement List.

SUMMARY: The Committee is proposing to add to the Procurement List products and services to be furnished by nonprofit agencies employing persons who are blind or have other severe disabilities.

Comments Must Be Received On or Before: June 29, 2008.

ADDRESSES: Committee for Purchase From People Who Are Blind or Severely Disabled Jefferson Plaza 2, Suite 10800, 1421 Jefferson Davis Highway, Arlington, Virginia, 22202-3259.

For Further Information or to Submit Comments Contact: Kimberly M. Zeich, Telephone: (703) 603-7740, Fax: (703) 603-0655, or e-mail CMTEFedReg@jwod.gov.

SUPPLEMENTARY INFORMATION: This notice is published pursuant to 41 U.S.C 47(a) (2) and 41 CFR 51-2.3. Its purpose is to provide interested persons an opportunity to submit comments on the proposed actions.

If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Paper, Tabulating Machine

NSN: 7530-00-185-6752—Paper, Tabulating Machine.

NPA: Association for Vision Rehabilitation and Employment, Inc., Binghamton, NY.

Coverage: B-List for the broad Government requirement as specified by the General Services Administration.

Contracting Activity: Office Supplies & Paper Products Acquisition Ctr, New York, NY.

Tri-Wall Aerial Distribution System (TRIADS) Humanitarian Airdrop Kit

NSN: 8115-01-544-2416.

NPA: Tarrant County Association for the Blind, Fort Worth, TX.

Coverage: B-List for the broad Government requirement as specified by the General Services Administration.

Contracting Activity: Office Supplies & Paper Products Acquisition Ctr, New York, NY.

Services

Service Type: Administrative Services.

Location: Carl Vinson VA Medical Center, 1826 Veterans Blvd., Dublin, GA.

NPA: Bobby Dodd Institute, Inc., Atlanta, GA.

Contracting Activity: VISN 7 Network Logistics.

Service Type: Administrative Services.

Location: Charlie Norwood VA Medical Center, Uptown Division Complex, 1 Freedom Highway and Downtown Division Complex, 950 15th St., Augusta, GA.

NPA: Bobby Dodd Institute, Inc., Atlanta, GA.

Contracting Activity: VISN 7 Network Logistics.

Service Type: Base Supply Center.

Location: Base Supply Center—Camp Atterbury, IN.

NPA: L.C. Industries For The Blind, Inc., Durham, NC.

Contracting Activity: United State Property & Fiscal Officer for Indiana, Indianapolis, IN.

Service Type: Mailroom Operation.

Location: Moody Air Force Base, 5293 Schrader St, Moody AFB, GA.

NPA: Bobby Dodd Institute, Inc., Atlanta, GA.

Contracting Activity: Moody AFB, Moody AFB, GA.

Kimberly M. Zeich,
Director, Program Operations.

[FR Doc. E8-12101 Filed 5-29-08; 8:45 am]

BILLING CODE 6353-01-P